DEPARTMENT OF THE TREASURY

Community Development Financial Institutions Fund

Announcement Type: Notice and Request for Public Comment.

SUMMARY: The U.S. Department of the Treasury, as part of its continuing effort to reduce paperwork and respondent burden, invites the general public and other Federal agencies to take this opportunity to comment on proposed and/or continuing information collections, as required by the Paperwork Reduction Act of 1995. Currently, the Community Development Financial Institutions Fund (CDFI Fund), U.S. Department of the Treasury, is soliciting comments concerning the Annual Certification and Data Collection Report Form.

DATES: Written comments must be received on or before May 22, 2017 to be assured of consideration.

ADDRESSES: Submit your comments via email to Tanya McInnis, Certification, Compliance Monitoring and Evaluation (CCME) Acting Program Manager, CDFI Fund, at ccme@cdfi.treas.gov.

FOR FURTHER INFORMATION CONTACT: Tanya McInnis, Acting CCME Program Manager, CDFI Fund, U.S. Department of the Treasury, 1500 Pennsylvania Avenue NW., Washington, DC 20220. Other information regarding the CDFI Fund and its programs may be obtained through the CDFI Fund's Web site at http://www.cdfifund.gov.

SUPPLEMENTARY INFORMATION: Title: Annual Certification and Data Collection Report Form.

OMB Number: 1559-0046.

Abstract: This information collection captures information related to continuing compliance with certification standards for Community Development Financial Institutions (CDFI) and other data associated with the finances and activities of CDFIs. The revised document adds nine yes/no questions regarding management and organizational changes.

Type of Review: Regular Review.

Affected Public: Certified CDFIs.

Estimated Number of Respondents: 1,000.

Estimated Annual Time per Respondent: 8 hours.

Estimated Total Annual Burden Hours: 8,000 hours.

Requests for Comments: Comments submitted in response to this notice will be summarized and/or included in the request for OMB approval. All comments will become a matter of public record and may be published on the CDFI Fund Web site at http://www.cdfifund.gov. Comments are invited on: (a) Whether the collection of information is necessary for the proper performance of the functions of the CDFI Fund, including whether the information shall have practical utility; (b) the accuracy of the CDFI Fund's estimate of the burden of the collection of information; (c) ways to enhance the quality, utility, and clarity of the information to be collected; (d) ways to minimize the burden of the collection of information on respondents, including through the use of technology; and (e) estimates of capital or start-up costs and costs of operation, maintenance, and purchase of services to provide information.

Authority: Pub. L. 104-13; 12 CFR 1805; 12 CFR 1806; 12 CFR 1807; 12 CFR 1808.

Mary Ann Donovan,
Director, Community Development Financial Institutions Fund.

[FR Doc. 2017-05811 Filed 3-22-17; 8:45 am]

BILLING CODE 4810-70-P